DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Spring 2018 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the fall 2017 agenda. The purpose of the Agenda is to provide information to the public on regulations that are currently under review, being proposed, or issued by Commerce. The agenda is intended to facilitate comments and views by interested members of the public.

Commerce's spring 2018 regulatory agenda includes regulatory activities that are expected to be conducted during the period May 1, 2018, through April 30, 2019.

FOR FURTHER INFORMATION CONTACT: Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its spring 2018 Unified Agenda of Federal Regulatory and Deregulatory Actions pursuant to Executive Order 12866 and the Regulatory Flexibility Act, 5 U.S.C. 601 et seq. Executive Order 12866 requires agencies to publish an agenda of those regulations that are under consideration pursuant to this order. By memorandum of January 29, 2018, the Office of Management and Budget issued guidelines and procedures for the preparation and publication of the spring 2018 Unified Agenda. The Regulatory Flexibility Act requires agencies to publish, in the spring and fall of each year, a regulatory flexibility agenda that contains a brief description of the subject of any rule likely to have a significant economic impact on a substantial number of small entities, and a list that identifies those entries that have been selected for periodic review under section 610 of the Regulatory Flexibility Act.

In addition, beginning with the fall 2007 edition, the internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the internet.

Within Commerce, the Office of the Secretary and various operating units may issue regulations. Among these operating units, the National Oceanic and Atmospheric Administration (NOAA), the Bureau of Industry and Security, and the Patent and Trademark Office issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare Fishery Management Plans (FMPs) for the fisheries within their respective areas. Regulations implementing these FMPs regulate domestic fishing and foreign fishing where permitted. Foreign fishing may be conducted in a fishery in which there is no FMP only if a preliminary fishery management plan has been issued to govern that foreign fishing. In the development of FMPs, or amendments to FMPs, and their implementing regulations, the Councils are required by law to conduct public hearings on the draft plans and to consider the use of alternative means of regulating.

The Council process for developing FMPs and amendments makes it difficult for NMFS to determine the significance and timing of some regulatory actions under consideration by the Councils at the time the semiannual regulatory agenda is published.

Commerce's spring 2018 regulatory agenda follows.

Peter B. Davidson,
General Counsel.

International Trade Administration—Proposed Rule Stage
Sequence No. | Title | Regulation Identifier No.
22 | Covered Merchandise Referrals From the Customs Service | 0625-AB10

Bureau of Industry and Security—Proposed Rule Stage
Sequence No. | Title | Regulation Identifier No.
23 | Expansion of Export, Reexport, and Transfer (In-Country) Controls for Military End Use or Military End Users in the People's Republic of China (China), Russia, or Venezuela | 0694-AH53

National Oceanic and Atmospheric Administration—Proposed Rule Stage
Sequence No. | Title | Regulation Identifier No.
24 | Comprehensive Fishery Management Plan for Puerto Rico | 0648-BD32
25 | Comprehensive Fishery Management Plan for St. Croix | 0648-BD33
26 | Comprehensive Fishery Management Plan for St. Thomas/St. John | 0648-BD34
27 | Implementation of a Program for Transshipments by Large Scale Fishing Vessels in the Eastern Pacific Ocean | 0648-BD59
28 | International Fisheries; Western and Central Pacific Fisheries for Highly Migratory Species; Treatment of U.S. Purse Seine Fishing With Respect to U.S. Territories | 0648-BF41
29 | International Fisheries; South Pacific Tuna Fisheries; Implementation of Amendments to the South Pacific Tuna Treaty | 0648-BG04
30 | Voting Criteria for a Referendum on a Gulf of Mexico Reef Fish Catch Share Program for For-Hire Vessels With Landings Histories | 0648-BG36
31 | International Fisheries; Western and Central Pacific Fisheries for Highly Migratory Species; Requirements to Safeguard Fishery Observers | 0648-BG66
32 | Rule to Implement the For-Hire Reporting Amendments | 0648-BG75
33 | Amendment 36A to the Fishery Management Plan for the Reef Fish Resources of the Gulf of Mexico | 0648-BG83
34 | Amendment 116 to the Fishery Management Plan for Groundfish of the Bering Sea and Aleutian Islands Management Area | 0648-BH02
35 | Framework Adjustment 57 to the Northeast Multispecies Fishery Management Plan | 0648-BH52
36 | Atlantic Highly Migratory Species; Atlantic Bluefin Tuna and North Atlantic Albacore Quotas | 0648-BH54
37 | Framework Adjustment 5 to the Northeast Skate Complex Fishery Management Plan | 0648-BH57
38 | Generic Amendment to the Fishery Management Plans for the Reef Fish Resources of the Gulf of Mexico and Coastal Migratory Pelagic Resources in the Gulf of Mexico and Atlantic Region | 0648-BH72
39 | Atlantic Highly Migratory Species; Shortfin Mako Shark Management Measures | 0648-BH75
40 | Small-Mesh Multispecies 2018-2020 Specifications | 0648-BH76
41 | Amendment and Updates to the Pelagic Longline Take Reduction Plan | 0648-BF90
42 | Endangered and Threatened Species; Designation of Critical Habitat for Threatened Caribbean and Indo-Pacific Reef-building Corals | 0648-BG26

National Oceanic and Atmospheric Administration—Final Rule Stage
Sequence No. | Title | Regulation Identifier No.
43 | Modification of the Temperature-Dependent Component of the Pacific Sardine Harvest Guideline Control Rule to Incorporate New Scientific Information | 0648-BE77
44 | Regulatory Amendment to the Pacific Coast Groundfish Fishery Management Plan to Implement an Electronic Monitoring Program for the Pacific Whiting Fishery | 0648-BF52
45 | Framework Adjustment 2 to the Tilefish Fishery Management Plan | 0648-BF85
46 | Commerce Trusted Trader Program | 0648-BG51
47 | International Fisheries; Western and Central Pacific Fisheries for Highly Migratory Species; Fishing Limits in Purse Seine Fisheries for 2017 | 0648-BG93
48 | Allow Halibut Individual Fishing Quota Leasing to Community Development Quota Groups | 0648-BG94
49 | Nontrawl Lead Level 2 Observers | 0648-BG96
50 | Atlantic Highly Migratory Species; Revisions to Shark Fishery Closure Regulations | 0648-BG97
51 | Rule to Modify Mutton Snapper and Gag Management Measures in the Gulf of Mexico | 0648-BG99
52 | Amendment 47 to the Fishery Management Plan for Reef Fish Resources of the Gulf of Mexico | 0648-BH07
53 | Management Measures for Tropical Tunas in the Eastern Pacific Ocean | 0648-BH13
54 | Interim 2018 Pacific Coast Tribal Pacific Whiting Allocation | 0648-BH31
55 | Framework Adjustment 29 to the Atlantic Sea Scallop Fishery Management Plan; Northern Gulf of Maine Measures | 0648-BH51
56 | Pacific Halibut Catch Limits for Area 2A Fisheries in 2018 | 0648-BH71
57 | Designate Critical Habitat for the Hawaiian Insular False Killer Whale Distinct Population Segment | 0648-BC45
58 | Regulation to Reduce Incidental Bycatch and Mortality of Sea Turtles in the Southeastern U.S. Shrimp Fisheries | 0648-BG45
59 | Regulatory Amendment to Authorize a Recreational Quota Entity | 0648-BG57
60 | Wisconsin-Lake Michigan National Marine Sanctuary Designation | 0648-BG01
61 | Mallows Bay-Potomac River National Marine Sanctuary Designation | 0648-BG02

National Oceanic and Atmospheric Administration—Long-Term Actions
Sequence No. | Title | Regulation Identifier No.
62 | Pacific Coast Groundfish Fishing Capacity Reduction Loan Refinance | 0648-BE90
63 | Reducing Disturbances to Hawaiian Spinner Dolphins From Human Interactions | 0648-AU02
64 | Designation of Critical Habitat for the Arctic Ringed Seal | 0648-BC56

National Oceanic and Atmospheric Administration—Completed Actions
Sequence No. | Title | Regulation Identifier No.
65 | Amendment 39 to the Fishery Management Plan for the Reef Fish Resources of the Gulf of Mexico | 0648-BD25
66 | Pacific Coast Groundfish Trawl Rationalization Program; Widow Rockfish Reallocation in the Individual Fishing Quota Fishery | 0648-BF12
67 | Omnibus Essential Fish Habitat Amendment 2 | 0648-BF82
68 | Blueline Tilefish Amendment to the Golden Tilefish Fishery Management Plan | 0648-BF86
69 | Magnuson-Stevens Act Provisions; Fisheries off West Coast States; Pacific Coast Groundfish Fishery; Specifications and Management Measures and Fishery Management Plan Amendment 27 | 0648-BG17
70 | Fisheries off West Coast States; Pacific Coast Groundfish Fishery; Authorization of an Oregon Recreational Fishery for Midwater Groundfish Species | 0648-BG40
71 | Amendment 41 to the Fishery Management Plan for the Snapper-Grouper Fishery of the South Atlantic Region | 0648-BG77
72 | Amendment 46 to the Fishery Management Plan for Reef Fish Resources of the Gulf of Mexico to Establish a Gray Triggerfish Rebuilding Plan | 0648-BG87
73 | Rule to Modify Greater Amberjack Allowable Harvest and Rebuilding Plan in the Gulf of Mexico | 0648-BH14
74 | Atlantic Highly Migratory Species; Individual Bluefin Quota Program; Quarterly Accountability | 0648-BH17

Patent and Trademark Office—Completed Actions
Sequence No. | Title | Regulation Identifier No.
75 | Setting and Adjusting Patent Fees During Fiscal Year 2017 | 0651-AD02

DEPARTMENT OF COMMERCE (DOC)

International Trade Administration (ITA)

Proposed Rule Stage

22. Covered Merchandise Referrals From the Customs Service

E.O. 13771 Designation: Other.

Legal Authority: Pub. L. 114-125, sec. 421

Abstract: The Department of Commerce (the Department) is proposing to amend its regulations to set forth procedures to address covered merchandise referrals from U.S. Customs and Border Protection (CBP or the Customs Service).

Timetable:

Action | Date | FR Cite
NPRM | 12/00/18 |

Regulatory Flexibility Analysis Required: Yes.

Agency Contact: Jessica Link, Department of Commerce, International Trade Administration, 1401 Constitution Avenue NW, Washington, DC 20230, Phone: 202 482-1411.

RIN: 0625-AB10

DEPARTMENT OF COMMERCE (DOC)

Bureau of Industry and Security (BIS)

Proposed Rule Stage

23. • Expansion of Export, Reexport, and Transfer (In-Country) Controls for Military End Use or Military End Users in the People's Republic of China (China), Russia, or Venezuela

E.O. 13771 Designation: Other.

Legal Authority: 10 U.S.C. 7420; 10 U.S.C. 7430(e); 15 U.S.C. 1824a; 22 U.S.C. 287c; 22 U.S.C. 3201 et seq.; 22 U.S.C. 6004; 22 U.S.C. 7201 et seq.; 22 U.S.C. 7210; 30 U.S.C. 185(s); 30 U.S.C. 185(u); 42 U.S.C. 2139a; 43 U.S.C. 1354; 50 U.S.C. 1701 et seq.; 50 U.S.C. 4305; 50 U.S.C. 4601 et seq.; E.O. 12058; E.O. 12851; E.O. 12938; E.O. 12947; E.O. 13026; E.O. 13099; E.O. 13222; E.O. 13224; Pub. L. 108-11

Abstract: The Bureau of Industry and Security (BIS) proposes to amend the Export Administration Regulations (EAR) to expand license requirements on exports, reexports, and transfers (in-country) of items intended for military end use or military end users in the Peoples Republic of China (China), Russia, or Venezuela. Specifically, this rule would expand the licensing requirements for China to include “military end users,” in addition to “military end use.” It would broaden the items for which the licensing requirements and review policy apply and expand the definition of “military end use.” Next, it would create a new reason for control and associated review policy for regional stability for certain items to China, Russia, or Venezuela, moving existing text related to this policy. Finally, it would add Electronic Export Information filing requirements in the Automated Export System for exports to China, Russia, and Venezuela.

Timetable:

Action | Date | FR Cite
NPRM | 05/00/18 |

Regulatory Flexibility Analysis Required: Yes.

Agency Contact: Hillary Hess, Director, Regulatory Policy Division, Department of Commerce, Bureau of Industry and Security, 14th Street and Pennsylvania Avenue NW, Washington, DC 20230, Phone: 202 482-2440, Fax: 202 482-3355, Email: hillary.hess@bis.doc.gov.

RIN: 0694-AH53

DEPARTMENT OF COMMERCE (DOC)

National Oceanic and Atmospheric Administration (NOAA)

Proposed Rule Stage

National Marine Fisheries Service

24. Comprehensive Fishery Management Plan for Puerto Rico

E.O. 13771 Designation: Not subject to, not significant.

Legal Authority: 16 U.S.C. 1801 et seq.

Abstract: This rule would implement a comprehensive Puerto Rico Fishery Management Plan. The Plan will incorporate, and modify as needed, Federal fisheries management measures presently included in each of the existing species-based U.S. Caribbean Fishery Management Plans (Spiny Lobster, Reef Fish, Coral, and Queen Conch Fishery Management Plans) as those measures pertain to Puerto Rico exclusive economic zone waters. The goal of this action is to create a Fishery Management Plan tailored to the specific fishery management needs of Puerto Rico. If approved, this new Puerto Rico Fishery Management Plan, in conjunction with similar comprehensive Fishery Management Plans being developed for St. Croix and St. Thomas/St. John, will replace the Spiny Lobster, Reef Fish, Coral and Queen Conch Fishery Management Plans presently governing the commercial and recreational harvest in U.S. Caribbean exclusive economic zone waters.

Timetable:

Action | Date | FR Cite
NPRM | 04/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD32

25. Comprehensive Fishery Management Plan for St. Croix

E.O. 13771 Designation: Not subject to, not significant.

Legal Authority: 16 U.S.C. 1801 et seq.

Abstract: This rule would implement a comprehensive St. Croix Fishery Management Plan. The Plan would incorporate, and modify as needed, Federal fisheries management measures presently included in each of the existing species-based U.S. Caribbean Fishery Management Plans (Spiny Lobster, Reef Fish, Coral, and Queen Conch Fishery Management Plans) as those measures pertain to St. Croix exclusive economic zone waters. The goal of this action is to create a Fishery Management Plan tailored to the specific fishery management needs of St. Croix. If approved, this new St. Croix Fishery Management Plan, in conjunction with similar comprehensive Fishery Management Plans being developed for Puerto Rico and St. Thomas/St. John, will replace the Spiny Lobster, Reef Fish, Coral and Queen Conch Fishery Management Plans presently governing the commercial and recreational harvest in U.S. Caribbean exclusive economic zone waters.

Timetable:

Action | Date | FR Cite
NPRM | 04/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD33

26. Comprehensive Fishery Management Plan for St. Thomas/St. John

E.O. 13771 Designation: Not subject to, not significant.

Legal Authority: 16 U.S.C. 1801 et seq.

Abstract: This rule would implement a comprehensive St. Thomas/St. John Fishery Management Plan. The Plan would incorporate, and modify as needed, Federal fisheries management measures presently included in each of the existing species-based U.S. Caribbean Fishery Management Plans (Spiny Lobster, Reef Fish, Coral, and Queen Conch Fishery Management Plans) as those measures pertain to St. Thomas/St. John exclusive economic zone waters. The goal of this action is to create a Fishery Management Plan tailored to the specific fishery management needs of St. Thomas/St. John. If approved, this new St. Thomas/St. John Fishery Management Plan, in conjunction with similar comprehensive Fishery Management Plans being developed for St. Croix and Puerto Rico, will replace the Spiny Lobster, Reef Fish, Coral and Queen Conch Fishery Management Plans presently governing the commercial and recreational harvest in U.S. Caribbean exclusive economic zone waters.

Timetable:

Action | Date | FR Cite
NPRM | 04/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD34

27. Implementation of a Program for Transshipments by Large Scale Fishing Vessels in the Eastern Pacific Ocean

E.O. 13771 Designation: Not subject to, not significant.

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: Criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. This rule is necessary for the United States to satisfy its international obligations under the 1949 Convention for the Establishment of an Inter-American Tropical Tuna, to which it is a Contracting Party.

Timetable:

Action | Date | FR Cite
NPRM | 09/00/18 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BD59

28. International Fisheries; Western and Central Pacific Fisheries for Highly Migratory Species; Treatment of U.S. Purse Seine Fishing With Respect to U.S. Territories

E.O. 13771 Designation: Deregulatory.

Legal Authority: 16 U.S.C. 6901 et seq.

Abstract: This action would establish rules and/or procedures to address the treatment of U.S.-flagged purse seine vessels and their fishing activities in regulations issued by the National Marine Fisheries Service that implement decisions of the Commission for the Conservation and Management of Highly Migratory Fish Stocks in the Western and Central Pacific Ocean (Commission), of which the United States is a member. Under the Western and Central Pacific Fisheries Convention Implementation Act, the National Marine Fisheries Service exercises broad discretion when determining how it implements Commission decisions, such as purse seine fishing restrictions. The National Marine Fisheries Service intends to examine the potential impacts of the domestic implementation of Commission decisions, such as purse seine fishing restrictions, on the economies of the U.S. territories that participate in the Commission, and examine the connectivity between the activities of U.S.-flagged purse seine fishing vessels and the economies of the territories. Based on that and other information, the National Marine Fisheries Service might propose regulations that mitigate adverse economic impacts of purse seine fishing restrictions on the U.S. territories and/or that, in the context of the Convention on the Conservation and Management of Highly Migratory Fish Stocks in the Western and Central Pacific Ocean (Convention), recognize that one or more of the U.S. territories have their own purse seine fisheries that are distinct from the purse seine fishery of the United States and that are consequently subject to special provisions of the Convention and of Commission decisions.

Timetable:

Action | Date | FR Cite
ANPRM | 10/23/15 | 80 FR 64382
ANPRM Comment Period End | 11/23/15 |
NPRM | 04/00/19 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BF41

29. International Fisheries; South Pacific Tuna Fisheries; Implementation of Amendments to the South Pacific Tuna Treaty

E.O. 13771 Designation: Not subject to, not significant.

Legal Authority: 16 U.S.C. 973 et seq.

Abstract: Under authority of the South Pacific Tuna Act of 1988, this rule would implement recent amendments to the Treaty on Fisheries between the Governments of Certain Pacific Island States and the Government of the United States of America (also known as the South Pacific Tuna Treaty). The rule would include modification to the procedures used to request licenses for U.S. vessels in the western and central Pacific Ocean purse seine fishery, including changing the annual licensing period from June-to-June to the calendar year, and modifications to existing reporting requirements for purse seine vessels fishing in the western and central Pacific Ocean. The rule would implement only those aspects of the Treaty amendments that can be implemented under the existing South Pacific Tuna Act.

Timetable:

Action | Date | FR Cite
NPRM | 09/00/18 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG04

30. Voting Criteria for a Referendum on a Gulf of Mexico Reef Fish Catch Share Program for For-Hire Vessels With Landings Histories

E.O. 13771 Designation: Not subject to, not significant.

Legal Authority: 16 U.S.C. 1801 et seq.

Abstract: Amendment 42 to the Fishery Management Plan for Reef Fish Resources in the Gulf of Mexico (Amendment 42) proposes to establish a catch share program for up to five species of reef fish for headboats with landings history in the Southeast Region Headboat Survey. This rule would inform the public of the procedures, schedule, and eligibility requirements that NOAA Fisheries would use in conducting the referendum that is required before the Gulf of Mexico Fishery Management Council (Council) can submit Amendment 42 for Secretarial review.

Timetable:

Action | Date | FR Cite
NPRM | 02/00/19 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG36

31. International Fisheries; Western and Central Pacific Fisheries for Highly Migratory Species; Requirements to Safeguard Fishery Observers

E.O. 13771 Designation: Not subject to, not significant.

Legal Authority: 16 U.S.C. 6901 et seq.

Abstract: This rule would establish requirements to enhance the safety of fishery observers on highly migratory species fishing vessels. This rule would be issued under the authority of the Western and Central Pacific Fisheries Convention Implementation Act, and pursuant to decisions made by the Commission for the Conservation and Management of Highly Migratory Fish Stocks in the Western and Central Pacific Ocean. This action is necessary for the United States to satisfy its obligations under the Convention on the Conservation and Management of Highly Migratory Fish Stocks in the Western and Central Pacific Ocean, to which it is a Contracting Party.

Timetable:

Action | Date | FR Cite
NPRM | 06/00/18 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG66

32. Rule To Implement the For-Hire Reporting Amendments

E.O. 13771 Designation: Not subject to, not significant.

Legal Authority: 16 U.S.C. 1801 et seq.

Abstract: This rule proposes to implement Amendment 39 for the Snapper-Grouper Fishery of the South Atlantic Region, Amendment 9 for the Dolphin and Wahoo Fishery of the Atlantic, and Amendment 27 to the Coastal Migratory Pelagics Fishery of the Gulf of Mexico and Atlantic Regions (For-Hire Reporting Amendments). The For-Hire Reporting Amendments rule proposes mandatory weekly electronic reporting for charter vessel operators with a Federal for-hire permit in the snapper-grouper, dolphin wahoo, or coastal migratory pelagics fisheries; reduces the time allowed for headboat operators to complete their electronic reports; and requires location reporting by charter vessels with the same level of detail currently required for headboat vessels.

Timetable:

Action | Date | FR Cite
NPRM | 05/00/18 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG75

33. Amendment 36A to the Fishery Management Plan for the Reef Fish Resources of the Gulf of Mexico

E.O. 13771 Designation: Not subject to, not significant.

Legal Authority: 16 U.S.C. 1801 et seq.

Abstract: This action implements Amendment 36A to the Fishery Management Plan for reef fish resources in the Gulf of Mexico to improve compliance and increase management flexibility in the red snapper and grouper-tilefish commercial individual fishing quota programs in the Gulf of Mexico. In accordance with Amendment 36A, this action proposes to improve compliance with the individual fishing quota program by requiring all commercial reef fish permit holders to hail-in at least 3 hours, but no more than 24 hours, in advance of landing. It also proposes to address non-activated individual fishing quota accounts and provide the regional administrator with authority to retain annual allocation if a quota reduction is expected to occur.

Timetable:

Action | Date | FR Cite
Notice of Availability | 02/21/18 | 83 FR 7447
NPRM | 05/00/18 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG83

34. Amendment 116 to the Fishery Management Plan for Groundfish of the Bering Sea and Aleutian Islands Management Area

E.O. 13771 Designation: Not subject to, not significant.

Legal Authority: 16 U.S.C. 1801 et seq.

Abstract: This action would further limit access to the Bering Sea and Aleutian Islands yellowfin sole Trawl Limited Access fishery by catcher vessels delivering to offshore motherships or catcher/processors. In recent years, an unexpected increase in participation in the offshore sector of this fishery by catcher vessels allowed under current regulations has resulted in an increased yellowfin sole catch rate and a shorter fishing season. The North Pacific Fishery Management Council recently determined that limiting the number of eligible licenses assigned to catcher vessels in this fishery could stabilize the fishing season duration, provide better opportunity to increase production efficiency, and help reduce bycatch of Pacific halibut. This action would modify the License Limitation Program by establishing eligibility criteria for licenses assigned to catcher vessels to participate in this fishery based on historic participation.

Timetable:

Action | Date | FR Cite
NPRM | 05/00/18 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BH02

35. • Framework Adjustment 57 to the Northeast Multispecies Fishery Management Plan

E.O. 13771 Designation: Not subject to, not significant.

Legal Authority: 16 U.S.C. 1801 et seq.

Abstract: The proposed action would implement management measures included in Framework Adjustment 57 to the Northeast Multispecies Fishery Management Plan (Framework 57) that were developed by the New England Fishery Management Council in response to new scientific information. The proposed action would set 2018-2020 specifications for 20 Northeast multispecies stocks, including the three U.S./Canada stocks (Eastern Georges Bank cod, Eastern Georges Bank haddock, and Georges Bank yellowtail flounder). Specifically, this action would also: Revise the trimester quotas for the common pool fishery; set the southern New England/mid-Atlantic yellowtail flounder quota for the scallop fishery; revise the areas, seasons, and vessels subject to the Atlantic halibut accountability measures; adjust the areas, seasons, and triggers for southern windowpane flounder accountability measures for non-groundfish fisheries; revise catch thresholds for implementing the scallop fishery's accountability measures for southern New England yellowtail flounder; and provide the Regional Administrator with authority to adjust recreational measures for Georges Bank cod for 2018 and 2019 to address recent increases in catch.

Timetable:

Action | Date | FR Cite
NPRM | 05/00/18 |

Regulatory Flexibility Analysis Required: No.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BH52

36. • Atlantic Highly Migratory Species; Atlantic Bluefin Tuna and North Atlantic Albacore Quotas

E.O. 13771 Designation: Not subject to, not significant.

Legal Authority: 16 U.S.C. 1801 et seq.; 16 U.S.C. 971 et seq.

Abstract: The rule would modify the baseline annual U.S. Atlantic bluefin tuna quota and subquotas, as well as the baseline annual U.S. North Atlantic albacore (northern albacore) quota. This action is necessary to implement binding recommendations of the International Commission for the Conservation of Atlantic Tunas, as required by the Atlantic Tunas Convention Act, and to achieve domestic management objectives under the Magnuson-Stevens Fishery Conservation and Management Act. The rule also would implement a minor change to the Atlantic tunas size limit regulations to address retention, possession, and landings of tunas damaged by shark bites.

Timetable:

Action | Date | FR Cite
NPRM | 05/00/18 |

Regulatory Flexibility Analysis Required: Yes.

Agency Contact: Alan Risenhoover, Director, Office of Sustainable Fisheries, Department of Commerce, National Oceanic and Atmospheric Administration, 1315 East-West Highway, Room 13362, Silver Spring, MD 20910, Phone: 301 713-2334, Fax: 301 713-0596, Email: alan.risenhoover@noaa.gov.

RIN: 0648-BH54

37. • Framework Adjustment 5 to the Northeast Skate Complex Fishery Management Plan

E.O. 13771 Designation: Not subject to, not significant.

Legal Authority: 16 U.S.C. 1801 et seq.

Abstract: The New England Fishery Management Council developed Framework Adjustment 5 to the Northeast Skate Complex Fishery Management Plan. Framework 5 contains specifications for the skate fishery for the 2018-2019 fishing years. The Council is proposing to adjust specifications based on new scientific information and is proposing an annual catch limit for the skate complex and overall total allowable landings. Landing of barndoor skate is currently prohibited, but in response to NMFS' declaring the stock rebuilt in 2016, the Council proposed measures within Framework 5 to allow some retention of the stock. When approved, Framework 5 would: Establish a barndoor skate possession limit for season 1 (May 1 August 31), and season 2 (September 1 April 30), and establish a discard restriction such that any skate species that is already winged could not be discarded in order to land barndoor skate. Lastly, in order to provide flexibility for U.S. vessels fishing in the Northwest Atlantic Fisheries Organization area to maximize their skate retention, Framework 5 establishes measures to exempt vessels from skate regulations when fishing exclusively within the Northwest Atlantic Fisheries Organization Regulatory Area, except for the prohibition on possessing, retaining, or landing prohibited species.

Timetable:

Action | Date | FR Cite
NPRM | 05/00/18 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BH57

38. • Generic Amendment to the Fishery Management Plans for the Reef Fish Resources of the Gulf of Mexico and Coastal Migratory Pelagic Resources in the Gulf of Mexico and Atlantic Region

E.O. 13771 Designation: Not subject to, not significant.

Legal Authority: 16 U.S.C. 1801 et seq.

Abstract: This action, recommended by the Gulf of Mexico Fishery Management Council, would modify data reporting for owners or operators of federally permitted for-hire vessels (charter vessels and headboats) in the Gulf of Mexico, requiring them to declare the type of trip (for-hire or other) prior to departing for any trip, and electronically submit trip-level reports prior to off-loading fish at the end of each fishing trip. The declaration would include the expected return time and landing location. Landing reports would include information about catch and effort during the trip. The action would also require that these reports be submitted via approved hardware that includes a global positioning system attached to the vessel that is capable, at a minimum, of archiving global positioning system locations. This requirement would not preclude the use of global positioning system devices that provide real-time location data, such as the currently approved vessel monitoring systems.

Timetable:

Action | Date | FR Cite
NPRM | 10/00/18 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BH72

39. • Atlantic Highly Migratory Species; Shortfin Mako Shark Management Measures

E.O. 13771 Designation: Not subject to, not significant.

Legal Authority: 16 U.S.C. 1801 et seq.; 16 U.S.C. 971 et seq.

Abstract: Atlantic Highly Migratory Species fisheries are managed under the dual authority of the Magnuson-Stevens Conservation and Management Act (Magnuson-Stevens Act) and the Atlantic Tunas Convention Act, which implements U.S. obligations as member of the International Commission for the Conservation of Atlantic Tunas. North Atlantic shortfin mako sharks were recently determined to be overfished and experiencing overfishing, and the Commission's member countries, including the United States, adopted management measures in 2017 to take immediate action to reduce fishing mortality of the stock, including releasing of live sharks and increasing minimum sizes. This proposed action for shortfin mako sharks would implement the United States' obligations under those management measures to help prevent overfishing of the U.S. component of that stock and establish a foundation for a rebuilding program. Through the rulemaking process, NMFS would amend the 2006 Consolidated Highly Migratory Species Fishery Management Plan and examine management alternatives to address overfishing and establish a foundation for a rebuilding plan. This rulemaking would likely impact recreational and commercial fishing vessels that interact with shortfin mako sharks.

Timetable:

Action | Date | FR Cite
NPRM | 07/00/18

Regulatory Flexibility Analysis Required: Yes.

Agency Contact: Alan Risenhoover, Director, Office of Sustainable Fisheries, Department of Commerce, National Oceanic and Atmospheric Administration, 1315 East-West Highway, Room 13362, Silver Spring, MD 20910, Phone: 301 713-2334, Fax: 301 713-0596, Email: alan.risenhoover@noaa.gov.

RIN: 0648-BH75

40. • Small-Mesh Multispecies 2018-2020 Specifications

E.O. 13771 Designation: Not subject to, not significant.

Legal Authority: 16 U.S.C. 1801 et seq.

Abstract: This action would set the small-mesh multispecies specifications for the 2018-2020 fishing years and reinstate regulatory text that was inadvertently removed from the regulations in a previous action. The proposed action recommended by the New England Fishery Management Council would adjust the catch specifications during 2018-2020 for four target stocks caught by small mesh fishing gear (“the small-mesh fishery”): Northern silver hake, northern red hake, southern whiting, and southern red hake. The action would adjust the overfishing limit, the allowable biological catch, the annual catch limits, the total allowable landings and the total allowable landings trigger values. These adjustments account for the changes in stock biomass shown in the latest assessment update and changes in the discard rate since the last specifications were established. The specification limits are intended to keep the risk of overfishing at acceptable levels. This action would also reinstate regulatory text that specifies the red hake possession limits in the southern small mesh exemption area that NMFS inadvertently removed during a previous rulemaking action. The removal was a drafting error and not recommended by the New England Council. The text specifies the 5,000 lbs possession limit for red hake harvested in the southern small mesh exemption area. Reinstatement will reduce confusion in the industry because it will clarify the possession limits in the regulations as originally intended by the Council to help avoid exceeding the catch limits, which could harm to the resource.

Timetable:

Action | Date | FR Cite
NPRM | 05/00/18

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BH76

41. Amendment and Updates to the Pelagic Longline Take Reduction Plan

E.O. 13771 Designation: Not subject to, not significant.

Legal Authority: 16 U.S.C. 1361 et seq.

Abstract: Serious injury and mortality of the Western North Atlantic short-finned pilot whale stock incidental to the Category I Atlantic pelagic longline fishery continues at levels exceeding their Potential Biological Removal. This proposed action will examine a number of management measures to amend the Pelagic Longline Take Reduction Plan to reduce the incidental mortality and serious injury of short-finned pilot whales taken in the Atlantic Pelagic Longline fishery to below Potential Biological Removal. Potential management measures may include changes to the current limitations on mainline length, new requirements to use weak hooks (hooks with reduced breaking strength), and non-regulatory measures related to determining the best procedures for safe handling and release of marine mammals. The need for the proposed action is to ensure the Pelagic Longline Take Reduction Plan meets its Marine Mammal Protection Act mandated short- and long-term goals.

Timetable:

Action | Date | FR Cite
NPRM | 09/00/18

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BF90

42. Endangered and Threatened Species; Designation of Critical Habitat for Threatened Caribbean and Indo-Pacific Reef-Building Corals

E.O. 13771 Designation: Regulatory.

Legal Authority: 16 U.S.C. 1531 et seq.

Abstract: On September 10, 2014, the National Marine Fisheries Service listed 20 species of reef-building corals as threatened under the Endangered Species Act, 15 in the Indo-Pacific and five in the Caribbean. Of the 15 Indo-Pacific species, seven occur in U.S. waters of the Pacific Islands Region, including in American Samoa, Guam, the Commonwealth of the Mariana Islands, and the Pacific Remote Island Areas. This proposed rule would designate critical habitat for the seven species in U.S. waters (Acropora globiceps, Acropora jacquelineae, Acropora retusa, Acropora speciosa, Euphyllia paradivisa, Isopora crateriformis, and Seriatopora aculeata). The proposed designation would cover coral reef habitat around 17 island or atoll units in the Pacific Islands Region, including four in American Samoa, one in Guam, seven in the Commonwealth of the Mariana Islands, and five in Pacific Remote Island Areas, containing essential features that support reproduction, growth, and survival of the listed coral species. This rule also proposes to designate critical habitat for the five Caribbean corals and proposed to revise critical habitat for two, previously-listed corals, Acropora palmata and Acropora cervicornis.

Timetable:

Action | Date | FR Cite
NPRM | 12/00/18

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BG26

DEPARTMENT OF COMMERCE (DOC)

National Oceanic and Atmospheric Administration (NOAA)

Final Rule Stage

National Marine Fisheries Service

43. Modification of the Temperature-Dependent Component of the Pacific Sardine Harvest Guideline Control Rule To Incorporate New Scientific Information

E.O. 13771 Designation: Not subject to, not significant.

Legal Authority: 16 U.S.C. 1801 et seq.

Abstract: Pursuant to a recommendation of the Pacific Fishery Management Council (Council) under the Magnuson-Stevens Act, the National Marine Fisheries Service is proposing to use a new temperature index to calculate the temperature parameter of the Pacific sardine harvest guideline control rule under the Fishery Management Plan. The harvest guideline control rule, in conjunction with the overfishing limit and acceptable biological catch control rules, is used to set annual harvest levels for Pacific sardine. The temperature parameter is calculated annually. The National Marine Fisheries Service determined that a new temperature index is more statistically sound and this action will adopt that index.

Timetable:

Action | Date | FR Cite
NPRM | 08/23/17 | 82 FR 39977
NPRM Comment Period End | 09/22/17
Final Action | 05/00/18

Regulatory Flexibility Analysis Required: No.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BE77

44. Regulatory Amendment to the Pacific Coast Groundfish Fishery Management Plan To Implement an Electronic Monitoring Program for the Pacific Whiting Fishery

E.O. 13771 Designation: Deregulatory.

Legal Authority: 16 U.S.C. 1801 et seq.

Abstract: This action would implement a regulatory amendment to the Pacific Coast Groundfish Fishery Management Plan to allow Pacific whiting vessels the option to use electronic monitoring (video cameras and associated sensors) in place of observers to meet requirements for 100-percent observer coverage. Vessels participating in the catch share program are required to carry an observer on all trips to ensure total accountability for at-sea discards. For some vessels, electronic monitoring may have lower costs than observers and a reduced logistical burden. By allowing vessels the option to use electronic monitoring to meet monitoring requirements, this action is intended to increase operational flexibility and reduce monitoring costs for the Pacific whiting fleet.

Timetable:

Action | Date | FR Cite
NPRM | 09/06/16 | 81 FR 61161
NPRM Comment Period End | 10/06/16
Final Action | 05/00/18

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BF52

45. Framework Adjustment 2 to the Tilefish Fishery Management Plan

E.O. 13771 Designation: Not subject to, not significant.

Legal Authority: 16 U.S.C. 1801 et seq.

Abstract: The Mid-Atlantic Fishery Management Council has developed a framework adjustment to its Tilefish Fishery Management Plan, which would modify management measures for the tilefish fishery to improve the management of the species. The proposed measures would: Eliminate the current call-in reporting requirement; prohibit a vessel from fishing for more than one Individual Fishing Quota allocation at the same time; require tilefish to be landed with the head attached; clarify what fishing gears are allowed in the recreational fishery; and make an administrative change to how assumed discards are accounted for in the specifications setting process.

Timetable:

Action | Date | FR Cite
NPRM | 10/23/17 | 82 FR 48967
NPRM Comment Period End | 11/07/17
Final Action | 05/00/18

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BF85

46. Commerce Trusted Trader Program

E.O. 13771 Designation: Deregulatory.

Legal Authority: 16 U.S.C. 1801 et seq.

Abstract: This rule will establish a voluntary Commerce Trusted Trader Program for importers, aiming to provide benefits such as reduced targeting and inspections and enhanced streamlined entry into the United States for certified importers. Specifically, this rule would establish the criteria required of a Commerce Trusted Trader, and identify specifically how the program will be monitored and by whom. It will require that a Commerce Trusted Trader establish a secure supply chain and maintain the records necessary to verify the legality of all designated product entering into U.S. commerce, but will excuse the Commerce Trusted Trader from entering that data into the International Trade Data System prior to entry, as required by Seafood Import Monitoring Program (finalized on December 9, 2016). The rule will identify the benefits available to a Commerce Trusted Trader, detail the application process, and specify how the Commerce Trusted Trader will be audited by third-party entities while the overall program will be monitored by the National Marine Fisheries Service.

Timetable:

Action | Date | FR Cite
NPRM | 01/17/18 | 83 FR 2412
NPRM Comment Period End | 03/19/18
Final Action | 09/00/18

Regulatory Flexibility Analysis Required: Yes.

Agency Contact: John Henderschedt, Director, Office for International Affairs and Seafood Inspection, Department of Commerce, National Oceanic and Atmospheric Administration, 1315 East-West Highway, Room 10362, Silver Spring, MD 20910, Phone: 301 427-8314, Email: john.henderschedt@noaa.gov.

RIN: 0648-BG51

47. International Fisheries; Western and Central Pacific Fisheries for Highly Migratory Species; Fishing Limits in Purse Seine Fisheries for 2017

E.O. 13771 Designation: Not subject to, not significant.

Legal Authority: 16 U.S.C. 6901 et seq.

Abstract: As authorized under the Western and Central Pacific Fisheries Convention Implementation Act, this rule would enable NOAA Fisheries to implement a recent decision of the Commission for the Conservation and Management of Highly Migratory Fish Stocks in the Western and Central Pacific Ocean (Commission). The rule would establish a limit for calendar year 2017 on fishing effort by U.S. purse seine vessels in the U.S. exclusive economic zone and on the high seas between the latitudes of 20 degrees N and 20 degrees S in the area of application of the Convention on the Conservation and Management of Highly Migratory Fish Stocks in the Western and Central Pacific Ocean. The limit is 1,828 fishing days. The rule also would make corrections to outdated cross-references in existing regulatory text. This action is necessary to satisfy the obligations of the United States under the Convention on the Conservation and Management of Highly Migratory Fish Stocks in the Western and Central Pacific Ocean (Convention), to which it is a Contracting Party.

Timetable:

Action | Date | FR Cite
NPRM | 09/20/17 | 82 FR 43926
NPRM Comment Period End | 10/05/17
Final Action | 05/00/18

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG93

48. Allow Halibut Individual Fishing Quota Leasing to Community Development Quota Groups

E.O. 13771 Designation: Deregulatory.

Legal Authority: 16 U.S.C. 1861 et seq.; 16 U.S.C. 773 et seq.

Abstract: This action would allow Western Alaska Community Development Quota groups to lease halibut individual fishing quota in the Bering Sea and Aleutian Islands in years of low halibut catch limits. The Community Development Quota Program is an economic development program that provides eligible western Alaska villages with the opportunity to participate and invest in fisheries. The Community Development Quota Program receives annual allocations of total allowable catches for a variety of commercially valuable species. In recent years, low halibut catch limits have hindered most Community Development Quota groups' ability to create a viable halibut fishing opportunity for their residents. This proposed rule would authorize Community Development Quota groups to obtain additional halibut quota from commercial fishery participants to provide Community Development Quota community residents more fishing opportunities in years when the halibut Community Development Quota allocation may not be large enough to present a viable fishery for participants. This proposed rule is intended to alleviate the adverse economic, social, and cultural impacts of decreasing available halibut resource on Western Alaskan communities.

Timetable:

Action | Date | FR Cite
NPRM | 02/23/18 | 83 FR 8028
NPRM Comment Period End | 03/26/18
Final Action | 05/00/18

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BG94

49. Nontrawl Lead Level 2 Observers

E.O. 13771 Designation: Not subject to, not significant.

Legal Authority: 16 U.S.C. 1801 et seq.

Abstract: This action would modify regulations pertaining to the nontrawl lead level 2 observer deployment endorsement and require vessels to participate in a pre-cruise meeting when necessary. An observer deployed on a catcher/processor that participates in the Bering Sea and Aleutian Islands hook-and-line Pacific cod fishery or on a catcher/processor using pot gear to harvest groundfish in the Western Alaska Community Development Quota fisheries is required to have a nontrawl lead level 2 deployment endorsement. Since 2014, vessel owners and observer provider firms have reported an ongoing shortage of nontrawl lead level 2 endorsed observers that has delayed fishing trips and increased operational costs. This action would increase the pool of observers that could obtain the nontrawl lead level 2 endorsement by allowing sampling experience on trawl catcher/processors to count toward the minimum experience necessary to obtain a nontrawl lead level 2 deployment endorsement. The action would benefit the owners and operators of catcher/processor vessels required to carry an observer with a nontrawl lead level 2 endorsement, observer provider firms, and individuals serving as certified observers. This action also includes a revision to the observer coverage requirement for motherships receiving unsorted codends from catcher vessels groundfish Community Development Quota fishing and numerous housekeeping measures and technical corrections. These additional updates and corrections are necessary to improve terminology consistency throughout the regulations and, for operational consistency, to align mothership observer coverage requirements with Amendment 80 vessels consistent with the regulation of harvest provisions of the Magnuson-Stevens Act.

Timetable:

Action | Date | FR Cite
NPRM | 12/27/17 | 82 FR 61243
NPRM Comment Period End | 01/26/18
Final Action | 05/00/18

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BG96

50. Atlantic Highly Migratory Species; Revisions to Shark Fishery Closure Regulations

E.O. 13771 Designation: Deregulatory.

Legal Authority: 16 U.S.C. 1801 et seq.

Abstract: This rulemaking would revise the procedures in place for Atlantic Highly Migratory Species shark fishery closures. The rulemaking could change the landings level that prompts fishery closure and the length of time between public notice and the effective date of a fishery closure. This action would facilitate more timely action by the National Marine Fisheries Service when a closure is necessary to prevent overharvest and help commercial shark fisheries more fully utilize available quota by preventing early closures.

Timetable:

Action | Date | FR Cite
NPRM | 02/23/18 | 83 FR 8037
NPRM Comment Period End | 03/26/18
Final Action | 05/00/18

Regulatory Flexibility Analysis Required: Yes.

Agency Contact: Alan Risenhoover, Director, Office of Sustainable Fisheries, Department of Commerce, National Oceanic and Atmospheric Administration, 1315 East-West Highway, Room 13362, Silver Spring, MD 20910, Phone: 301 713-2334, Fax: 301 713-0596, Email: alan.risenhoover@noaa.gov.

RIN: 0648-BG97

51. Rule To Modify Mutton Snapper and Gag Management Measures in the Gulf of Mexico

E.O. 13771 Designation: Not subject to, not significant.

Legal Authority: 16 U.S.C. 1801 et seq.

Abstract: This rule would establish annual catch limits from 2017 through 2020 for the Gulf of Mexico apportionment of mutton snapper and remove the annual catch target because this target is not currently used for management purposes. This rule would also establish a recreational bag limit for mutton snapper, modify the minimum size limit for commercial and recreational mutton snapper, and modify the commercial minimum size limit for gag. The majority of mutton snapper and gag landings are from waters adjacent to Florida, and the changes in bag and size limits would make these management measures consistent with those established for Florida state waters and in the case of gag, with South Atlantic Federal regulations.

Timetable:

Action | Date | FR Cite
NPRM | 02/15/18 | 83 FR 6830
NPRM Comment Period End | 03/17/18
Final Action | 05/00/18

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG99

52. Amendment 47 to the Fishery Management Plan for Reef Fish Resources of the Gulf of Mexico

E.O. 13771 Designation: Not subject to, not significant.

Legal Authority: 16 U.S.C. 1801 et seq.

Abstract: This action would revise the maximum sustainable yield proxy and adjust the annual catch limit for the vermilion snapper stock within the Fishery Management Plan for Reef Fish Resources of the Gulf of Mexico. The Gulf of Mexico Fishery Management Council (Council) approved this action at their June 2017 meeting in response to a 2016 stock assessment for vermilion snapper. The estimate of maximum sustainable yield is dependent upon the spawner-recruit relationship. For vermilion snapper, there is a high degree of variability in the data used and the Council's Scientific and Statistical Committee had little confidence in the resulting estimate of maximum sustainable yield. Instead, the SSC recommended the use of a maximum sustainable yield proxy. This action is necessary to establish: A maximum sustainable yield proxy and associated status determination criteria that are consistent with the best scientific information available, and an annual catch limit that does not exceed the acceptable biological catch yields from the 2016 stock.

Timetable:

Action | Date | FR Cite
Notice of Availability | 12/19/17 | 82 FR 60168
NPRM | 12/27/17 | 82 FR 61241
NPRM Comment Period End | 01/26/18
Final Action | 05/00/18

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BH07

53. Management Measures for Tropical Tunas in the Eastern Pacific Ocean

E.O. 13771 Designation: Not subject to, not significant.

Legal Authority: 16 U.S.C. 951 et seq.

Abstract: This proposed rule would implement the Inter-American Tropical Tuna Commission's Resolution C-17-02, which contains provisions intended to prevent the overfishing of tropical tuna (bigeye, yellowfin, and skipjack) in the eastern Pacific Ocean for fishing years 2018 to 2020. In addition to rolling over measures from the 2017 resolution, this resolution includes additional management measures related to fish aggregating devices, makes minor revisions to the definition of force majeure, includes provisions related to transferring longline catch limits for bigeye tuna between Inter-American Tropical Tuna Commission members, and increases the bigeye tuna catch limit U.S. longline vessels greater than 24 meters in overall length that fish in the Inter-American Tropical Tuna Commission Convention Area.

Timetable:

Action | Date | FR Cite
NPRM | 11/14/17 | 82 FR 52700
NPRM Comment Period End | 12/14/17
Final Action | 05/00/18

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BH13

54. • Interim 2018 Pacific Coast Tribal Pacific Whiting Allocation

E.O. 13771 Designation: Not subject to, not significant.

Legal Authority: 16 U.S.C. 1801 et seq.

Abstract: NMFS has prepared a proposed rule for the tribal Pacific whiting (whiting) fishery off the coast of Washington State. The purpose would be to establish an interim 2018 tribal whiting allocation. NMFS is developing this rule after discussions with the affected tribes and the non-tribal fisheries interests. As in prior years, this allocation is an “interim” allocation that is not intended to set precedent for future years—a new allocation will be set each year after discussions with the affected tribes and fisheries interests.

Timetable:

Action | Date | FR Cite
NPRM | 01/24/18 | 83 FR 3291
NPRM Comment Period End | 02/23/18
Final Action | 05/00/18

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BH31

55. • Framework Adjustment 29 to the Atlantic Sea Scallop Fishery Management Plan; Northern Gulf of Maine Measures

E.O. 13771 Designation: Not subject to, not significant.

Legal Authority: 16 U.S.C. 1801 et seq.

Abstract: This action implements the New England Fishery Management Council's Framework Adjustment 29 to the Atlantic Sea Scallop Fishery Management Plan. The Atlantic sea scallop fishery consists of two primary fleets, the Limited Access fleet, and the Limited Access General Category fleet. The Limited Access fleet is managed with days-at-sea—a number of days that can be fished per year—and an access area rotation program. Framework 29 would set management measures in the Northern Gulf of Maine for the scallop fishery for the 2018 fishing year, including dividing the annual total allowable catch between the Limited Access and Limited Access General Category fleets. Currently, Limited Access vessels can access the Northern Gulf of Maine while on days-at-sea with no hard limit on landings while in the area. This has resulted in total landings from the Northern Gulf of Maine by the Limited Access fleet that far exceeded the total allowable catch for the Limited Access General Category fleet. Instead, this action would allow Limited Access vessels access through research set-aside compensation fishing. Currently the limited access fleet is allocated days-at-sea based on the condition of the scallop resource in the open area. They can choose to use these days-at-sea in the Northern Gulf of Maine if the area has not been closed. This action would prohibit the Limited Access fleet from accessing the Northern Gulf of Maine while participating in the days-at-sea program. The Limited Access fleet share of the Northern Gulf of Maine total allowable catch would be available through research set-aside compensation fishing only.

Timetable:

Action | Date | FR Cite
NPRM | 02/20/18 | 83 FR 7129
NPRM Comment Period End | 03/07/18
Final Action | 05/00/18

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BH51

56. • Pacific Halibut Catch Limits for Area 2a Fisheries in 2018

E.O. 13771 Designation: Not subject to, not significant.

Legal Authority: 16 U.S.C. 1801 et seq.

Abstract: NMFS is implementing this interim final rule to set 2018 Pacific halibut catch limits within the International Pacific Halibut Commission's regulatory Area 2A off the coasts of Washington, Oregon and California. In accordance with Article III of the Protocol Amending the Convention Between the United States of America and Canada for the Preservation of the Halibut Fishery of the Northern Pacific Ocean and Bering Sea (Convention), the IPHC can recommend, among other things, catch limits for each fishing season. The Secretary of State, with the concurrence of the Secretary of Commerce, may then accept or reject, on behalf of the United States, the International Pacific Halibut Commission's recommendations. Although the United States and Canada voiced consensus at the International Pacific Halibut Commission's January 2018 annual meeting that some reduction in catch limits relative to 2017 in all areas was appropriate, United States and Canadian Commissioners could not reach consensus on specific catch limit recommendations for 2018. As a result, absent any action by the United States, 2017 catch limits for the U.S. halibut fishery, which do not reflect management needs for the current status of the stock, will remain in place. Thus, through this rule, the Secretary of Commerce is exercising his authority under Article 1 of the Convention and section 773c of the Halibut Act to establish catch limit regulations for Area 2A. This rule will implement Area 2A catch limits according to the 2018 Catch Sharing Plan.

Timetable:

Action | Date | FR Cite
Interim Final Rule | 05/00/18

Regulatory Flexibility Analysis Required: No.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BH71

57. Designate Critical Habitat for the Hawaiian Insular False Killer Whale Distinct Population Segment

E.O. 13771 Designation: Regulatory.

Legal Authority: 16 U.S.C. 1531 et seq.

Abstract: In 2012, NMFS listed as endangered the main Hawaiian Islands (MHI) insular false killer whale (Pseudorca crassidens) Distinct Population Segment (DPS). The Endangered Species Act (ESA) requires NMFS to designate critical habitat to support the conservation and recovery of newly listed species. Accordingly, this proposed rule would designate critical habitat for the MHI insular false killer whale DPS in waters around the MHI. NMFS will evaluate the economic, national security, or other relevant impacts of the proposed designation, and would consider excluding areas where such negative impacts would outweigh the benefits of critical habitat designation.

Timetable:

Action | Date | FR Cite
NPRM | 11/03/17 | 82 FR 51186
NPRM Comment Period End | 01/02/18
Final Action | 07/00/18

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BC45

58. Regulation To Reduce Incidental Bycatch and Mortality of Sea Turtles in the Southeastern U.S. Shrimp Fisheries

E.O. 13771 Designation: Regulatory.

Legal Authority: 16 U.S.C. 1531 et seq.

Abstract: The purpose of the proposed action is to aid in the protection and recovery of listed sea turtle populations by reducing incidental bycatch and mortality of small sea turtles in the Southeastern U.S. shrimp fisheries. As a result of new information on sea turtle bycatch in shrimp trawls and turtle excluder device testing, NMFS conducted an evaluation of the Southeastern U.S. shrimp fisheries that resulted in a draft environmental impact statement. This rule proposes to withdraw the alternative tow time restriction, and require certain vessels using skimmer trawls, pusher-head trawls, and wing nets (butterfly trawls), with the exception of vessels participating in the Biscayne Bay wing net fishery in Miami-Dade County, Florida, to use turtle excluder devices designed to exclude small sea turtles.

Timetable:

Action | Date | FR Cite
NPRM | 12/16/16 | 81 FR 91097
NPRM Comment Period End | 02/14/17 |
Final Action | 07/00/18 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG45

59. Regulatory Amendment To Authorize a Recreational Quota Entity

E.O. 13771 Designation: Deregulatory.

Legal Authority: 16 U.S.C. 773 to 773k

Abstract: The proposed action would authorize a recreational quota entity in International Pacific Halibut Commission Regulatory Areas 2C and 3A in the Gulf of Alaska to purchase a limited amount of commercial halibut quota share for use in the charter halibut fishery. The recreational quota entity would provide a mechanism for a compensated reallocation of a portion of commercial halibut quota share from the Pacific Halibut and Sablefish Individual Fishing Quota Program to the charter halibut fishery in order to promote long-term planning and greater stability in the charter halibut fishery. Any halibut quota share from Area 2C or Area 3A purchased by the recreational quota entity would augment the amount of halibut available for harvest in the charter halibut fishery in that area. Underlying allocations to the charter and commercial halibut sectors would not change.

Timetable:

Action | Date | FR Cite
NPRM | 10/03/17 | 82 FR 46016
NPRM Comment Period End | 11/17/17 |
Final Action | 05/00/18 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BG57

NOS/ONMS

60. Wisconsin-Lake Michigan National Marine Sanctuary Designation

E.O. 13771 Designation: Other.

Legal Authority: 16 U.S.C. 1431 et seq.

Abstract: On December 2, 2014, pursuant to section 304 of the National Marine Sanctuaries Act and the Sanctuary Nomination Process (79 FR 33851), a coalition of community groups submitted a nomination asking NOAA to designate an area of Wisconsin's Lake Michigan waters as a national marine sanctuary. The area is a region that includes 875 square miles of Lake Michigan waters and bottomlands adjacent to Manitowoc, Sheboygan, and Ozaukee counties and the cities of Port Washington, Sheboygan, Manitowoc, and Two Rivers. It includes 80 miles of shoreline and extends 9 to 14 miles from the shoreline. The area contains an extraordinary collection of submerged maritime heritage resources (shipwrecks) as demonstrated by the listing of 15 shipwrecks on the National Register of Historic Places. The area includes 39 known shipwrecks, 123 reported vessel losses, numerous other historic maritime-related features, and is adjacent to communities that have embraced their centuries-long relationship with Lake Michigan. NOAA completed its review of the nomination in accordance with the Sanctuary Nomination Process and on February 5, 2015, added the area to the inventory of nominations that are eligible for designation. On October 7, 2015, NOAA issued a notice of intent to begin the designation process and asked for public comment on making this area a national marine sanctuary. Designation under the National Marine Sanctuaries Act would allow NOAA to supplement and complement work by the State of Wisconsin and other Federal agencies to protect this collection of nationally significant shipwrecks.

Timetable:

Action | Date | FR Cite
NPRM | 01/09/17 | 82 FR 2269
NPRM Comment Period End | 03/31/17 |
Final Action | 06/00/18 |

Regulatory Flexibility Analysis Required: Yes.

Agency Contact: Vicki Wedell, Department of Commerce, National Oceanic and Atmospheric Administration, 1305 East-West Highway (N/ORM6), Silver Spring, MD 20910, Phone: 301 713-7237, Fax: 301 713-0404, Email: vicki.wedell@noaa.gov.

RIN: 0648-BG01

61. Mallows Bay-Potomac River National Marine Sanctuary Designation

E.O. 13771 Designation: Other.

Legal Authority: 16 U.S.C. 1431 et seq.

Abstract: On September 16, 2014, pursuant to section 304 of the National Marine Sanctuaries Act and the Sanctuary Nomination Process (79 FR 33851), a coalition of community groups submitted a nomination asking NOAA to designate Mallows Bay-Potomac River as a national marine sanctuary. The Mallows Bay area of the tidal Potomac River is an area 40 miles south of Washington, DC, off the Nanjemoy Peninsula of Charles County, MD. The designation of a national marine sanctuary would focus on conserving the collection of maritime heritage resources (shipwrecks) in the area as well as expand the opportunities for public access, recreation, tourism, research, and education. NOAA completed its review of the nomination in accordance with the Sanctuary Nomination Process and on January 12, 2015, added the area to the inventory of nominations that are eligible for designation. On October 7, 2015, NOAA issued a notice of intent to begin the designation process and asked for public comment on making this area a national marine sanctuary. Designation under the National Marine Sanctuaries Act would allow NOAA to supplement and complement work by the State of Maryland and other Federal agencies to protect this collection of nationally significant shipwrecks.

Timetable:

Action | Date | FR Cite
NPRM | 01/09/17 | 82 FR 2254
NPRM Comment Period End | 03/31/17 |
Final Action | 06/00/18 |

Regulatory Flexibility Analysis Required: Yes.

Agency Contact: Vicki Wedell, Department of Commerce, National Oceanic and Atmospheric Administration, 1305 East-West Highway (N/ORM6), Silver Spring, MD 20910, Phone: 301 713-7237, Fax: 301 713-0404, Email: vicki.wedell@noaa.gov.

RIN: 0648-BG02

DEPARTMENT OF COMMERCE (DOC)

National Oceanic and Atmospheric Administration (NOAA)

Long-Term Actions

National Marine Fisheries Service

62. Pacific Coast Groundfish Fishing Capacity Reduction Loan Refinance

E.O. 13771 Designation: Not subject to, not significant.

Legal Authority: 16 U.S.C. 1801 et seq.; 16 U.S.C. 1861 et seq.; 5 U.S.C. 561 et seq.

Abstract: Congress enacted the 2015 National Defense Authorization Act to refinance the existing debt obligation funding the fishing capacity reduction program for the Pacific Coast Groundfish fishery implemented under section 212. Pending appropriation of funds to effect the refinance, the National Marine Fisheries Service issued proposed regulations to seek comment on the refinancing and to prepare for an industry referendum and final rule. However, a subsequent appropriation to fund the refinancing was never enacted. As a result, the National Marine Fisheries Service has no funds with which to proceed, and the refinancing authority cannot be implemented. The National Marine Fisheries Service is therefore withdrawing this proposed rule.

Timetable:

Action | Date | FR Cite
NPRM | 08/06/15 | 80 FR 46941
NPRM Comment Period End | 09/08/15 |
To Be Determined | To Be Determined

Regulatory Flexibility Analysis Required: Yes.

Agency Contact: Stuart Merrill, Phone: 301 427-8733, Email: stuart.merrill@noaa.gov.

RIN: 0648-BE90

63. Reducing Disturbances to Hawaiian Spinner Dolphins From Human Interactions

E.O. 13771 Designation: Not subject to, not significant.

Legal Authority: 16 U.S.C. 1361 et seq.

Abstract: This action would implement regulatory measures under the Marine Mammal Protection Act to protect Hawaiian spinner dolphins that are resting in protected bays from take due to close approach interactions with humans.

Timetable:

Action | Date | FR Cite
ANPRM | 12/12/05 | 70 FR 73426
ANPRM Comment Period End | 01/11/06 |
NPRM | 08/24/16 | 81 FR 57854
NPRM Comment Period End | 10/23/16 |
NPRM Comment Period Reopened | 11/16/16 | 81 FR 80629
NPRM Comment Period Reopened End | 12/01/16 |
To Be Determined | To Be Determined

Regulatory Flexibility Analysis Required: Yes.

Agency Contact: Donna Wieting, Phone: 301 427-8400.

RIN: 0648-AU02

64. Designation of Critical Habitat for the Arctic Ringed Seal

E.O. 13771 Designation: Regulatory.

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The critical habitat designation would be in the northern Bering, Chukchi, and Beaufort seas within the current range of the species.

Timetable:

Action | Date | FR Cite
NPRM | 12/03/14 | 79 FR 71714
Proposed Rule | 12/09/14 | 79 FR 73010
Notice of Public Hearings | 01/13/15 | 80 FR 1618
Comment Period Extended | 02/02/15 | 80 FR 5498
To Be Determined | To Be Determined

Regulatory Flexibility Analysis Required: Yes.

Agency Contact: Donna Wieting, Phone: 301 427-8400.

RIN: 0648-BC56

DEPARTMENT OF COMMERCE (DOC)

National Oceanic and Atmospheric Administration (NOAA)

Completed Actions

65. Amendment 39 to the Fishery Management Plan for the Reef Fish Resources of the Gulf of Mexico

E.O. 13771 Designation: Not subject to, not significant.

Legal Authority: 16 U.S.C. 1801 et seq.

Abstract: The purpose of this action is to facilitate management of the recreational red snapper component in the reef fish fishery by reorganizing the Federal fishery management strategy to better account for biological, social, and economic differences among the regions of the Gulf of Mexico. Regional management would enable regions and their associated communities to specify the optimal management parameters that best meet the needs of their local constituents thereby addressing regional socio-economic concerns.

Timetable:

Action | Date | FR Cite
Notice | 05/13/13 | 78 FR 27956
Withdrawn | 02/09/18 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD25

66. Pacific Coast Groundfish Trawl Rationalization Program; Widow Rockfish Reallocation in the Individual Fishing Quota Fishery

E.O. 13771 Designation: Not subject to, not significant.

Legal Authority: 16 U.S.C. 1801 et seq.

Abstract: In January 2011, the National Marine Fisheries Service implemented the groundfish trawl rationalization program (a catch share program) for the Pacific coast groundfish limited entry trawl fishery. The program was implemented through Amendments 20 and 21 to the Pacific Coast Groundfish Fishery Management Plan and the corresponding implementing regulations. Amendment 20 established the trawl rationalization program, which includes an Individual Fishing Quota program for limited entry trawl participants, and Amendment 21 established fixed allocations for limited entry trawl participants. During implementation of the trawl individual fishing quota program, widow rockfish was overfished and the initial allocations were based on its overfished status and management as a non-target species. The National Marine Fisheries Service declared the widow rockfish rebuilt in 2011 and, accordingly, the Pacific Fishery Management Council has now recommended actions to manage the increased abundance of widow rockfish. This action reallocated individual fishing quota widow rockfish quota share to facilitate directed harvest and lifted the moratorium on widow rockfish quota share trading.

Timetable:

Action | Date | FR Cite
NPRM | 06/29/16 | 81 FR 42295
NPRM Comment Period End | 07/29/16 |
Final Action | 11/24/17 | 82 FR 55775
Final Action Effective | 12/26/17 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BF12

67. Omnibus Essential Fish Habitat Amendment 2

E.O. 13771 Designation: Deregulatory.

Legal Authority: 16 U.S.C. 1801 et seq.

Abstract: The New England Fishery Management Council voted to issue this updated rulemaking that would revise the essential fish habitat and habitat areas of particular concern designation based on recent groundfish data. This rule updates groundfish seasonal spawning closures and identifies Habitat Research Areas. The revisions include adding a habitat management area in the eastern Gulf of Maine and modifying the existing habitat management areas in the central and western Gulf of Maine, while maintaining additional protections for large-mesh groundfish, including cod. In addition, the amendment allows for the potential for development of a scallop access area within Georges Bank. A habitat management area would be established on Georges Shoal, with allowances for the clam dredge fishery. In Southern New England, a habitat management area in the Great South Channel would replace the current habitat protections further west. These revisions are intended to comply with the Magnuson-Stevens Act requirement to minimize to the extent practicable the adverse effects of fishing on essential fish habitat.

Timetable:

Action | Date | FR Cite
Notice of Availability | 10/06/17 | 82 FR 46749
NPRM | 11/06/17 | 82 FR 51492
NPRM Comment Period End | 12/05/17 |
Final Action | 04/09/18 | 83 FR 15240
Final Action Effective | 04/09/18 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BF82

68. Blueline Tilefish Amendment to the Golden Tilefish Fishery Management Plan

E.O. 13771 Designation: Not subject to, not significant.

Legal Authority: 16 U.S.C. 1801 et seq.

Abstract: The Mid-Atlantic Fishery Management Council developed an amendment to its Golden Tilefish Fishery Management Plan, which implements management measures for the blueline tilefish fishery north of the Virginia/North Carolina border. This action establishes the management framework for this fishery, including: Permitting, recordkeeping, and reporting requirements; trip limits for both the commercial and recreational sectors of the fishery; and the process for setting specifications and annual catch limits.

Timetable:

Action | Date | FR Cite
Notice of Availability | 06/14/17 | 82 FR 27223
NPRM | 06/28/17 | 82 FR 29263
NPRM Comment Period End | 07/28/17 |
Final Action | 11/15/17 | 82 FR 52851
Final Action Effective | 12/15/17 |

Regulatory Flexibility Analysis Required: No.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BF86

69. Magnuson-Stevens Act Provisions; Fisheries Off West Coast States; Pacific Coast Groundfish Fishery; Specifications and Management Measures and Fishery Management Plan Amendment 27

E.O. 13771 Designation: Not subject to, not significant.

Legal Authority: 16 U.S.C. 1801 et seq.

Abstract: This final rule established the 2017-2018 harvest specifications and management measures for groundfish taken in the U.S. exclusive economic zone off the coasts of Washington, Oregon, and California, consistent with the Magnuson-Stevens Fishery Conservation and Management Act and the Pacific Coast Groundfish Fishery Management Plan (Fishery Management Plan), including harvest specifications consistent with default harvest control rules in the Fishery Management Plan. This action also included regulations to implement Amendment 27 to the Fishery Management Plan, which adds deacon rockfish to the Fishery Management Plan, reclassifies big skate as an actively managed stock, adds a new inseason management process for commercial and recreational groundfish fisheries in California, and makes several clarifications to existing regulations.

Timetable:

Action | Date | FR Cite
Notice of Availability | 09/30/16 | 81 FR 67287
NPRM | 10/28/16 | 81 FR 75266
NPRM Comment Period End | 11/28/16 |
Final Rule | 02/07/17 | 82 FR 9634
Final Rule Effective | 02/07/17 |
Correcting Amendment | 12/21/17 | 82 FR 60567
Correcting Amendment Effective | 12/21/17 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BG17

70. Fisheries Off West Coast States; Pacific Coast Groundfish Fishery; Authorization of an Oregon Recreational Fishery for Midwater Groundfish Species

E.O. 13771 Designation: Deregulatory.

Legal Authority: 16 U.S.C. 1801 et seq.

Abstract: This rule authorizes the use of midwater long-leader gear for recreational fishing in waters seaward of a line approximating 40 fathoms (73 m) off the coast of Oregon. Midwater long-leader gear is allowed for both charter and private vessels seaward of the 40 fathom seasonal depth closure and monitored with the existing Oregon Ocean Recreational Boat Sampling program. The season will occur between the months of April and September, months currently subject to depth restrictions.

Timetable:

Action | Date | FR Cite
NPRM | 12/19/17 | 82 FR 60170
NPRM Comment Period End | 01/18/18 |
Final Action | 03/29/18 | 83 FR 13428
Final Action Effective | 04/01/18 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BG40

71. Amendment 41 to the Fishery Management Plan for the Snapper-Grouper Fishery of the South Atlantic Region

E.O. 13771 Designation: Not subject to, not significant.

Legal Authority: 16 U.S.C. 1801 et seq.

Abstract: NMFS publishes regulations to implement Amendment 41. This amendment updates biological benchmarks, modifies allowable fishing levels, and revises management measures for mutton snapper based on the latest stock assessment. Revisions to management measures include designation of “spawning months,” during which stricter regulations may apply, as well as modifications to the minimum size limit, recreational bag limit, and commercial trip limit.

Timetable:

Action | Date | FR Cite
Notice of Availability | 09/26/17 | 82 FR 44756
NPRM | 10/24/17 | 82 FR 49167
NPRM Comment Period End | 11/24/17 |
Final Action | 01/11/18 | 83 FR 1305
Final Action Effective | 02/10/18 |

Regulatory Flexibility Analysis Required: No.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG77

72. Amendment 46 to the Fishery Management Plan for Reef Fish Resources of the Gulf of Mexico To Establish a Gray Triggerfish Rebuilding Plan

E.O. 13771 Designation: Not subject to, not significant.

Legal Authority: 16 U.S.C. 1801 et seq.

Abstract: Following a 2015 NMFS determination of the lack of adequate progress in rebuilding the Gulf gray triggerfish stock, the Gulf of Mexico Fishery Management Council had two years under the Magnuson Stevens Act to develop actions to rebuild the affected stock. The Council has now proposed to amend the Fishery Management Plan to focus on the stock's rebuilding. This action implements that amendment. The action establishes a 9-year rebuilding time period; retains the current gray triggerfish annual catch limits and annual catch targets for the recreational and commercial sectors; modifies the recreational fixed closed season, recreational bag limit, recreational size limit, and commercial trip limit.

Timetable:

Action | Date | FR Cite
Notice of Availability | 08/30/17 | 82 FR 41205
NPRM | 09/25/17 | 82 FR 44551
NPRM Comment Period End | 10/25/17 |
Final Action | 12/15/17 | 82 FR 59523
Final Action Effective | 01/16/18 |

Regulatory Flexibility Analysis Required: No.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG87

73. Rule To Modify Greater Amberjack Allowable Harvest and Rebuilding Plan in the Gulf of Mexico

E.O. 13771 Designation: Not subject to, not significant.

Legal Authority: 16 U.S.C. 1801 et seq.

Abstract: This rule adjusts the Gulf of Mexico greater amberjack rebuilding plan, to modify through 2020-based on information from the 2017 stock assessment that indicated that the stock is not making adequate progress towards rebuilding-greater amberjack annual catch limits and annual catch targets (which equal the quotas) for both the commercial and recreational fisheries. The modifications are projected to rebuild the stock by 2027. In addition, the rule would change the recreational seasonal closure from June through July each year to January 1 through June 30 each year. This change would protect the stock during peak spawning and extend the season later in the fishing year, leading to a more reliable open season.

Timetable:

Action | Date | FR Cite
NPRM | 11/20/17 | 82 FR 55074
NPRM Comment Period End | 12/05/17 |
Final Action | 12/28/17 | 82 FR 61485
Final Action Effective | 01/27/18 |

Regulatory Flexibility Analysis Required: No.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BH14

74. Atlantic Highly Migratory Species; Individual Bluefin Quota Program; Quarterly Accountability

E.O. 13771 Designation: Deregulatory.

Legal Authority: 16 U.S.C. 1801 et seq.; 16 U.S.C. 971 et seq.

Abstract: This action modified the Atlantic highly migratory species regulations to require vessels in the pelagic longline fishery to account for bycatch of bluefin tuna using Individual Bluefin Quota on a quarterly basis instead of before commencing any fishing trip while in quota debt or with less than the minimum required Individual Bluefin Quota balance. Previously, regulations required permitted Atlantic Tunas Longline vessels to possess a minimum amount of Individual Bluefin Quota to depart on a fishing trip with pelagic longline gear onboard and account for bluefin tuna catch (fish retained or discarded dead) using Individual Bluefin Quota. At the end of a trip on which bluefin tuna are caught, a vessel's Individual Bluefin Quota balance was reduced by the amount caught. If the trip catch exceeded the vessel's available quota, the vessel would incur quota debt (i.e., exceeding its available Individual Bluefin Quota balance). In this case, the regulations previously required the vessel to obtain additional Individual Bluefin Quota through leasing to resolve that quota debt and to acquire the minimum Individual Bluefin Quota amount, before departing on a subsequent trip using pelagic longline gear. This action implemented accountability on a quarterly basis instead of after each trip to minimize constraints on fishing for target species and support business planning while accounting for all bluefin tuna catch and maintaining incentives to avoid bluefin catch. Quarterly accountability requires vessel owners to resolve quota debt and obtain the minimum amount of Individual Bluefin Tuna prior to fishing for the first time during each new calendar quarter. The annual U.S. Bluefin tuna quota remains unaffected by this measure, as it results from International Commission for the Conservation of Atlantic Tunas recommendations.

Timetable:

Action | Date | FR Cite
NPRM | 10/25/17 | 82 FR 49303
NPRM Comment Period End | 11/24/17 |
Final Action | 12/28/17 | 82 FR 61489
Final Action Effective | 01/27/18 |

Regulatory Flexibility Analysis Required: Yes.

Agency Contact: Alan Risenhoover, Director, Office of Sustainable Fisheries, Department of Commerce, National Oceanic and Atmospheric Administration, 1315 East-West Highway, Room 13362, Silver Spring, MD 20910, Phone: 301 713-2334, Fax: 301 713-0596, Email: alan.risenhoover@noaa.gov.

RIN: 0648-BH17

DEPARTMENT OF COMMERCE (DOC)

Patent and Trademark Office (PTO)

Completed Actions

75. Setting and Adjusting Patent Fees During Fiscal Year 2017

E.O. 13771 Designation: Fully or Partially Exempt.

Legal Authority: Pub. L. 112-29

Abstract: The United States Patent and Trademark Office (Office) takes this action to set and adjust Patent fee amounts to provide the Office with a sufficient amount of aggregate revenue to recover its aggregate cost of operations while helping the Office maintain a sustainable funding model, reduce the current patent application backlog, decrease patent pendency, improve quality, and upgrade the Office's business information technology capability and infrastructure.

Timetable:

Action | Date | FR Cite
NPRM | 10/03/16 | 81 FR 68150
NPRM Comment Period End | 12/02/16 |
Final Rule | 11/14/17 | 82 FR 52780
Final Rule Effective | 01/16/18 |

Regulatory Flexibility Analysis Required: Yes.

Agency Contact: Brendan Hourigan, Director, Office of Planning and Budget, Department of Commerce, Patent and Trademark Office, P.O. Box 1450, Alexandria, VA 22313-1450, Phone: 571 272-8966, Fax: 571 273-8966, Email: brendan.hourigan@uspto.gov.

RIN: 0651-AD02

[FR Doc. 2018-11235 Filed 6-8-18; 8:45 am]

BILLING CODE 3510-12-P